DEPARTMENT OF ENERGY

Golden Field Office; Request for Sponsorship and Support for the 2002 Solar Decathlon

AGENCY: Golden Field Office, Department of Energy.

ACTION: Notice of request for sponsorship and support for the 2002 Solar Decathlon.

SUMMARY: The U.S. Department of Energy (DOE) is announcing its intention to conduct a 2002 Solar Decathlon and is soliciting letters of interest from potential co-sponsor(s) and supporters for this inaugural event. The Solar Decathlon is an intercollegiate competition to design and construct energy-efficient and aesthetically pleasing 21st-century homes that use solar energy.

The contest focuses on designing a place to live and work that obtains all of its energy from the sun. Each university team will participate in ten contests that measure the students' ability to design and build homes that collect, store, and effectively use this clean energy (e.g., heating, cooling, lighting, communications, transportation). The Solar Decathlon winner will be the team that demonstrates the most effective balance of energy production and consumption in these ten events during the weeklong competition.

This historic event will be held on the National Mall in Washington, DC, during late summer or early fall 2002. For seven days, solar decathletes will transform the Mall from a pedestrian thoroughfare to a bustling community of energy-efficient, completely solar-powered homes. Each solar house will be a visual showcase of architectural expression and engineering excellence designed and built by creative students from some of the country's preeminent colleges and universities. Each team will test its ability to effectively use the collected solar energy to heat, cool, refrigerate, light, communicate, and transport. The Department's goal is to build the event into an energy and housing “World Fair”.

DATES: Letters of interest are requested by August 16, 2000.

ADDRESSES: Copies of this announcement can be obtained from the Golden Field Office home page at ­ http://www.eren.doe.gov/golden/solicitations.html. Letters of interest, clearly marked “2002 Solar Decathlon,” should be submitted in writing to Ruth E. Adams, DOE Golden Field Office, 1617 Cole Boulevard, Golden, CO 80401-3393; transmitted via facsimile to Ruth E. Adams at 303-275-4788; or sent electronically to ruth_adams@nrel.gov.

FOR FURTHER INFORMATION CONTACT: Interested parties should contact Ann Worley at 303-275-4700 or ann_worley@nrel.gov.

SUPPLEMENTARY INFORMATION: Under this announcement, DOE is declaring its intention to conduct a 2002 Solar Decathlon and is soliciting interested parties to co-sponsor or support this solar competition. DOE's goals for conducting the Solar Decathlon are to promote and celebrate the creativity and talent of students from a full range of academic disciplines and to support public awareness and enthusiasm for energy efficiency and renewable energy. DOE's financial support is expected to be $1 million for planning, managing, conducting, and promoting the event.

DOE is requesting expressions of interest from parties interested in co-sponsoring or supporting the Solar Decathlon. Event sponsor(s) or supporters will help to promote clean energy for the 21st century, while celebrating educational excellence and the possibilities for integrating these technologies into our homes and lives. Sponsor(s) and supporters would include those organizations willing to commit cash or contributions of equipment, supplies, or services to the event.

Sponsor(s) would be those providing substantive funds or resources to the event, whereas supporters would be those making contributions, but not to the level necessary to co-sponsor the event. Specific areas of interest include programming support (e.g., public broadcasting, media coverage, Internet coverage), donations of equipment or supplies for the event or each participating team (e.g., building materials or supplies, appliances, computers, solar equipment), services (e.g., public outreach, infrastructure support), or funding to supplement that being provided by DOE.

Letters of interest should include the following: (1) Level of interest (i.e., sponsor or supporter); (2) nature of the contributions (i.e., cash, donations of equipment, supplies, or services) and the amount of the proposed support; (3) degree of commitment (i.e., fully committed with funds or contributions available, interested, but need additional information before funds or resources can be committed); (4) brief description of your organization; (5) description of how your investment or involvement in the event compliments your organization's mission; and (6) reasons for supporting the Solar Decathlon.

Letters of interest, clearly marked “2002 Solar Decathlon,” are requested by August 16, 2000 and should be submitted in writing to Ruth E. Adams, DOE Golden Field Office, 1617 Cole Boulevard, Golden, CO 80401-3393; transmitted via facsimile to Ruth E. Adams at 303-275-4788; or sent electronically to ruth_adams@nrel.gov.

Issued in Golden, Colorado, on June 12, 2000.
Jerry L. Zimmer,
Procurement Director, Golden Field Office.

[FR Doc. 00-15682 Filed 6-20-00; 8:45 am]

BILLING CODE 6450-01-P